DEPARTMENT OF DEFENSE

Office of the Secretary

[Transmittal No. 25-15]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-15, Policy Justification, and Sensitive of Technology.

Dated: January 12, 2026.
Stephanie J. Bost,
Alternate OSD Federal Register Liaison Officer, Department of Defense.

BILLING CODE 6001-FR-P

BILLING CODE 6001-FR-C

Transmittal No. 25-15

Notice of Proposed Issuance of Letter of Offer Pursuant to Section 36(b)(1) of the Arms Export Control Act, as amended

(i) Prospective Purchaser: Government of Poland

(ii) Total Estimated Value:

Major Defense Equipment * | $1.20 billion
Other | $ .13 billion
TOTAL | $1.33 billion

Funding Source: Foreign Military Financing and National Funds

(iii) Description and Quantity or Quantities of Articles or Services under Consideration for Purchase:

Major Defense Equipment (MDE):

Four hundred (400) AIM-120D3 Advanced Medium-Range Air-to-Air Missiles

Sixteen (16) AIM-120D3 AMRAAM guidance sections, including either Selective Availability Anti-Spoofing Modules or M-Code

One (1) AIM-120 AMRAAM Instrumented Test Vehicle

Non-Major Defense Equipment:

The following non-MDE items will also be included: AMRAAM control sections, missile containers, and support equipment; Common Munitions Built-in-Test Reprogramming Equipment (CMBRE); ADU-891 adapter group test sets; KGV-135A encryption devices; Computer Program Identification Numbers (CPINs); spares and repair parts, consumables and accessories, and repair and return support; weapons system support and software; classified software delivery and support; classified publications and technical documentation; transportation support; studies and surveys; United States (U.S.) Government and contractor engineering, technical, and logistics support services; and other related elements of logistics and program support.

(iv) Military Department: Air Force (PL-D-YAC)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: April 29, 2025

* as defined in Section 47(6) of the Arms Export Control Act.

POLICY JUSTIFICATION

Poland—AIM-120D Advanced Medium Range Air-to-Air Missiles

The Government of Poland has requested to buy four hundred (400) AIM-120D3 Advanced Medium-Range Air-to-Air Missiles (AMRAAM); sixteen (16) AIM-120D3 AMRAAM guidance sections, including either Selective Availability Anti-Spoofing Modules or M-Code; and one (1) AIM-120 AMRAAM Instrumented Test Vehicle. The following non-MDE items will also be included: AMRAAM control sections, missile containers, and support equipment; Common Munitions Built-in-Test Reprogramming Equipment (CMBRE); ADU-891 adapter group test sets; KGV-135A encryption devices; Computer Program Identification Numbers (CPINs); spares and repair parts, consumables and accessories, and repair and return support; weapons system support and software; classified software delivery and support; classified publications and technical documentation; transportation support; studies and surveys; U.S. Government and contractor engineering, technical, and logistics support services; and other related elements of logistics and program support. The estimated total cost is $1.33 billion.

This proposed sale will support the foreign policy goals and national security of the U.S. by improving the security of a NATO Ally that is a force for political and economic stability in Europe.

The proposed sale will improve Poland's capability to meet current and future threats by providing air-to-air defense to protect Polish and allied forces in transition or combat and significantly improve the Polish contribution to NATO requirements. Poland already has AMRAAM in its inventory and will have no difficulty absorbing these articles into its armed forces.

The proposed sale of this equipment and support will not alter the basic military balance in the region.

The principal contractor will be RTX Corporation, located in Tucson, AZ. At this time, the U.S. Government is not aware of any offset agreement proposed in connection with this potential sale. Any offset agreement will be defined in negotiations between the purchaser and the contractor.

Implementation of this proposed sale will not require the assignment of any additional U.S. Government or contractor representatives to Poland.

There will be no adverse impact on U.S. defense readiness as a result of this proposed sale.

Transmittal No. 25-15

Notice of Proposed Issuance of Letter of Offer Pursuant to Section 36(b)(1) of the Arms Export Control Act

Annex

Item No. vii

(vii) Sensitivity of Technology:

1. The AIM-120D-series Advanced Medium Range Air-to-Air Missile (AMRAAM) is a supersonic, air-launched, aerial intercept guided missile featuring digital technology and micro-miniature, solid-state electronics. AMRAAM capabilities include look-down/shoot-down, multiple launches against multiple targets, resistance to electronic countermeasures, and interception of high and low-flying and maneuvering targets. The AIM-120D features a quadrangle target detection device and an electronics unit within the guidance section that performs all radar signal processing, mid-course and terminal guidance, flight control, target detection, and warhead detonation.

2. The Common Munitions Built-In-Test Reprogramming Equipment (CMBRE) is support equipment used to interface with weapon systems to initiate and report BIT results and upload and download flight software. CMBRE supports multiple munitions platforms with a range of applications that perform preflight checks, periodic maintenance checks, loading of Operational Flight Program data, loading of munitions mission planning data, loading of Global Positioning System (GPS) cryptographic keys, and declassification of munitions memory.

3. The ADU-891 adapter group test set provides the physical and electrical interface between the CMBRE and the missile.

4. The KGV-135A is a high-speed, general purpose encryptor and decryptor module used for wideband data encryption.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that Poland can provide substantially the same degree of protection for the sensitive technology being released as the U.S. Government. This sale is necessary in furtherance of the U.S. foreign policy and national security objectives outlined in the Policy Justification.

8. All defense articles and services listed in this transmittal have been authorized for release and export to the Government of Poland.

[FR Doc. 2026-00708 Filed 1-14-26; 8:45 am]

BILLING CODE 6001-FR-P